Title 3—

The President

Proclamation 7900 of May 12, 2005

World Trade Week, 2005

By the President of the United States of America

A Proclamation

Free and fair trade creates jobs, raises living standards, and lowers prices for families throughout America. It also strengthens our relationships with other countries, helping us to forge new partnerships based on a commitment to generate new prosperity and a better way of life for people in America and throughout the world. This year, as we mark the tenth anniversary of the World Trade Organization, World Trade Week provides an opportunity to recognize the many benefits of free and fair trade in strengthening economies and improving lives.

Because 95 percent of the world's population resides outside of our borders, trade creates opportunities for American farmers, small businesses, and manufacturers to sell their products to consumers across the world. Trade also raises up the world's poor, bringing hope to those in despair.

Millions of American jobs depend on exports, and my Administration is committed to opening markets around the world for American products. Since 2001, we have completed free trade agreements with 12 nations, representing a combined market of 124 million consumers for American products, goods, and services. These agreements will create millions of new consumers for America's farmers, manufacturers, and small business owners, and deepen our friendships with countries in other parts of the world.

As we open up new markets to trade, we must always ensure that American workers are treated fairly. Our workers can compete with anyone, anywhere, so long as the rules are fair. My Administration will continue to enforce trade agreements and insist upon a level playing field for America's workers.

NOW, THEREFORE, I, GEORGE W. BUSH, President of the United States of America, by virtue of the authority vested in me by the Constitution and laws of the United States, do hereby proclaim May 15 through May 21, 2005, as World Trade Week. I encourage all Americans to observe this week with events, trade shows, and educational programs that celebrate the benefits of trade to our Nation and the global economy.

IN WITNESS WHEREOF, I have hereunto set my hand this twelfth day of May, in the year of our Lord two thousand five, and of the Independence of the United States of America the two hundred and twenty-ninth.

B

[FR Doc. 05-9891

Filed 5-13-05; 11:31 am]

Billing code 3195-01-P